DEPARTMENT OF LABOR

Employment and Training Administration

[TA-W-38,458 and NAFTA-4373]

Country Roads, Inc. Greenville, MI; Notice of Affirmative Determination Regarding Application for Reconsideration

By letter of January 17, 2001, the company requested administrative reconsideration of the Department's negative determination regarding eligibility to apply for Trade Adjustment Assistance (TAA) and North American Free Trade Agreement-Transitional Adjustment Assistance (NAFTA-TAA), applicable to workers and former workers of the subject firm. The denial notices were signed on January 10, 2001, and were published in the Federal Register on February 8, 2001 (66 FR 9599) and (66 FR 9600), respectively.

The company asserts that in addition to refurbishing auditorium seats, the workers at the Greenville plant also produced new auditorium seats.

Conclusion

After careful review of the application, I conclude that the claim is of sufficient weight to justify reconsideration of the Department of Labor's prior decision. The application is, therefore, granted.

Signed at Washington, DC this 13th day of March, 2001.
Linda G. Poole,
Certifying Officer, Division of Trade Adjustment Assistance.

[FR Doc. 01-8328 Filed 4-4-01; 8:45 am]

BILLING CODE 4510-30-M